DEPARTMENT OF THE TREASURY

Internal Revenue Service

Open Meeting of the Taxpayer Advocacy Panel's Notices and Correspondence Project Committee

AGENCY: Internal Revenue Service (IRS), Treasury.

ACTION: Notice of meeting.

SUMMARY: An open meeting of the Taxpayer Advocacy Panel's Notices and Correspondence Project Committee will be conducted. The Taxpayer Advocacy Panel is soliciting public comments, ideas, and suggestions on improving customer service at the Internal Revenue Service. This meeting will be held via teleconference.

DATES: The meeting will be held Thursday, October 12, 2023.

FOR FURTHER INFORMATION CONTACT: Kelvin Johnson at 1-888-912-1227 or (504) 202-9679.

SUPPLEMENTARY INFORMATION: Notice is hereby given pursuant to section 10(a)(2) of the Federal Advisory Committee Act, 5 U.S.C. app. (1988) that an open meeting of the Taxpayer Advocacy Panel's Notices and Correspondence Project Committee will be held Thursday, October 12, 2023, at 3:00 p.m. Eastern Time. The public is invited to make oral comments or submit written statements for consideration. Due to limited time and structure of meeting, notification of intent to participate must be made with Ann Tabat. For more information, please contact Kelvin Johnson at 1-888-912-1227 or (504) 202-9679, or write TAP Office, 1555 Poydras Street, 2nd Floor, MS 12, New Orleans, LA 70112 or contact us at the website: http://www.improveirs.org. The agenda will include a committee discussion about the IRS response to Issue 53484-LTR 3030C (Bal-Due/Interest Due). There will be a discussion of the Difficult/Challenging Letters/Notices, and a Review of Notice CP503.

Dated: September 6, 2023.
Kevin Brown,
Acting Director, Taxpayer Advocacy Panel.

[FR Doc. 2023-19750 Filed 9-12-23; 8:45 am]

BILLING CODE 4830-01-P